DEPARTMENT OF COMMERCE

National Oceanic and Atmospheric Administration

50 CFR Part 660

[I.D. 092004A]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 124th meeting to consider and take actions on fishery management issues in the Western Pacific Region. A meeting of the Council's Scientific and Statistical Committee (SSC) will also be held.

DATES: The 87th SSC meeting will be held on October 5-7, 2004. The 124th Council meeting and public hearings will be held on October 12-15, 2004. For specific times, and the agenda, see SUPPLEMENTARY INFORMATION.

ADDRESSES: The 87th SSC meeting will be held at the Western Pacific Fishery Council Conference room, 1164 Bishop Street, Suite 1400, Honolulu, HI. The 124th Council meeting and public hearings will be held at the Pagoda Hotel, 1525 Rycroft Street, Honolulu, HI; telephone: 808-943-6611.

FOR FURTHER INFORMATION CONTACT: Kitty M. Simonds, Executive Director; telephone: (808) 522-8220.

SUPPLEMENTARY INFORMATION: In addition to the agenda items listed here, the SSC and Council will hear recommendations from other Council advisory groups. Public comment periods will be provided throughout the agenda. The order in which agenda items are addressed may change. The SSC and Council will meet as late as necessary to complete scheduled business.

Schedule and Agenda for SSC

9 a.m. Tuesday,October 5, 2004

1. Introductions

2. Approval of draft agenda and assignment of rapporteurs

3. Approval of the minutes of the 86th meeting

4. SEDAR approach to stock assessment

5. Insular fisheries

A. Final action on Commonwealth of Northern Mariana Islands (CNMI) bottomfish management

B. Initial action on recreational data bottomfish pilot project

C. Honolulu restaurant survey

D. 2004 NWHI lobster cruise and charter plans

E. NWHI lobster Multi-FAN stock assessment

F. Current precious coral research

G. Initial action on black coral management measures

H. Deep sea coral management

6. Ecosystem and habitat

A. Mariana Archipelago fishery ecosystem plan pilot project

B. Initial action on geographic fishery ecosystem plans

C. NWHI sanctuary alternatives

1. National Ocean Service (NOS) goals, objectives and alternatives

2. Initial action on bottomfish measures

3. Initial action on crustaceans measures

4. Initial action on precious corals measures

5. Initial action on coral reef ecosystems measures

6. Initial action on pelagics measures

8:30 a.m. Wednesday, Oct 6, 2004

A. Final action on pelagic squid management

B. Final action on seabird measures

C. American Samoa and Hawaii longline fisheries

1. Quarterly reports

D. International issues

1. Bigeye tuna management measures

2. 17th standing Committee on Tuna and Billfish

3. Food and Agricultural Organization (FAO) technical consultation on turtles

4. Sapporo meeting on fishing capacity

5. Western and Central Pacific Fisheries Convention Preparatory Conference 7

6. NMFS Highly Migratory Species Summit

7. Fishing experiments workshop

8. 3rd International Fishers Forum

E. Pelagic Plan Team recommendations

8. Protected species

A. Sea turtles

1. Hawaiian green sea turtle de-listing workshop

2. Turtle fibropapilloma workshop

B. Marine mammals

1. False killer whale workshop and list of fisheries

2. Council advisory committee on marine mammals

C. Endangered Species Act (ESA)jeopardy workshop

8:30 a.m. Thursday, Oct 7, 2004

9. Other business

A. 88th SSC meeting

Schedule and Agenda for Council Standing Committee Meetings

Tuesday, October 12, 2004

1. 8a.m. - 10 a.m. Enforcement/Vessel Monitoring Systems Standing Committee

2. 8 a.m. - 10 a.m. Ecosystem and Habitat Standing Committee

3. 10 a.m. - Noon Pelagic and International Standing Committee

4. 10 a.m. - Noon Bottomfish Standing Committee

5. 1:30 p.m. - 3:30 p.m. Precious Corals/Crustaceans Standing Committee

6. 1:30 p.m. - 3:30 p.m. Indigenous Rights Standing Committee

7. 3:30 p.m. - 5 p.m. Executive/Budget and Program Standing Committee

Schedule and Agenda for Public Hearings

Thursday, October 14, 2004

9 a.m. - 9:30 a.m. Initial action on a framework adjustment to measures in the Fishery Management Plan for the Precious Corals Fisheries of the Western Pacific Region (Precious Corals FMP) to revise the requirements for the minimum harvest size of black corals.

11:30 a.m. - 12 Noon. Final Action on measures to manage CNMI bottomfish and initial action on options to collect Hawaii recreational bottomfish data.

5 p.m. - 6 p.m. Initial action on ecosystem approaches for developing geographic fishery ecosystem plans, and initial action on management measures for NWHI bottomfish, crustacean, precious coral, pelagic and coral reef ecosystem fisheries, pursuant to the proposed designation of the NWHI Coral Reef Ecosystem Reserve as a national marine sanctuary.

Friday, October 15, 2004

10 a.m. - 10:15 a.m. Final action on management measures for pelagic squid and seabirds.

The agenda during the full Council meeting will include the items listed here.

For more information on public hearing items, see BACKGROUND INFORMATION.

Schedule and Agenda for Council Meeting

8:30 a.m - 5 p.m. Wednesday, October 13, 2004

1. Introductions

2. Approval of agenda

3. Approval of 123rd meeting minutes

4. Island reports

A. American Samoa

B. Guam

C. Hawaii

D. CNMI

5. Reports from fishery agencies and organizations

A. Department of Commerce

a. NMFS

i. Pacific Islands Regional Office

ii. Pacific Islands Fisheries Science Center

b. National Marine Sanctuary Program

i. Pacific Sanctuaries update

c. NOAA General Counsel Southwest Region

B. The Department of Interior - The U.S. Fish and Wildlife Service (USFWS)

C. State Department

D. Report from the Nature Conservancy

6. Enforcement/vessel monitoring systems A. US Coast Guard activities

B. NMFS activities

C. Enforcement activities of local agencies

D. Status of violations

E. Update on electronic logbooks regulatory amendment

F. NWHI enforcement strategy workshop

7. Observer programs

A. Report on the NWHI bottomfish observer program

B. Report on the native observer program

C. Report on the Hawaii longline observer program

D. Report on the American Samoa observer program

8. Fishery rights of indigenous peoples

A. Community Demonstration Projects Program (2nd solicitation)

B. Update on Guam Community Development Plan

C. Secretariat of the Pacific community and Council coastal fisheries management workshop

D. Marine Conservation Plans (MCP)

1. Guam MCP

2. American Samoa MCP

9. Pacific Islands Region Strategic Plan

Fisher's Forum: Recreational Fisheries Data and Pacific Islands Region Strategic Plan (6:30 p.m.-9 p.m.)

8:30 a.m. 5 p.m. Thursday, October 14, 2004

10. Insular fisheries

A. Precious corals fisheries

a. Black coral management measures (initial action)

b. Current precious coral research

c. Deep sea coral management

B. Crustaceans fisheries

a. 2004 NWHI cruise and charter plans

b. Multi-FAN stock assessment

C. Bottomfish fisheries

a. CNMI bottomfish management measures (final action)

b. Honolulu restaurant survey

c. Recreational data (initial action)

D. Ecosystem and habitat

a. Mariana Archipelago fishery ecosystem plan pilot project

b. Geographic fishery ecosystem plan (initial action)

c. NWHI Sanctuary alternatives (initial action)

i. NOS goals, objectives and alternatives

ii. Bottomfish management measures

iii. Crustacean management measures

iv. Precious corals management measures

v. Pelagic management measures

vi. Coral reef ecosystems management measures

8:30 a.m. 5 p.m., Friday, October 15, 2004

11. Pelagic fisheries

A. Pelagic squid management (final action)

B. Seabird measures (final action)

C. Sea turtles

a. Hawaiian green sea turtle delisting workshop

b. Turtle fibropapilloma workshop

D. Marine mammals

a. False killer whale workshop and list of fisheries

b. Update on Council Advisory Committee on marine mammal

c. ESA jeopardy workshop

F. American Samoa and Hawaii longline fisheries quarterly workshop

G. International issues

a. Bigeye tuna management measures

b. 17th Standing Committee on Tuna and Billfish

c. FAO technical consultation on turtles

d. Sapporo meeting on fishing capacity

e. Prepatory Conference 7” write “Western and Central Pacific Fisheries Convention Preparatory Conference 7

f. Highly Migratory Species Summit

g. Fishing experiments workshop

h. 3rd International Fishers Forum

12. Program planning

A Update on Federal and local fishery-related legislation

B. Status of Hawaii $5 million disaster funds for Federal fisheries

C. WPacFIN

D. National Environmental Policy Act Activities

a. Fishery Ecosystem Plan Scoping

b. Upcoming actions

E. Programmatic Grants report

F. Joint Pacific and Western Pacific Council Meeting

13. Administrative matters

A. Financial reports

B. Administrative report

C. Meetings and workshops

D. Advisory group changes

a. Marine mammal working group

b. Fishery ecosystem plan advisory group

E. Statement of Organization Practices and Policies (SOPP) changes

14. Other business

A. Election of officers

Background Information

1. Initial Action on a Change in the Black Coral Harvest Minimum Size (initial action)

A public hearing will be held on initial action to implement a framework adjustment to the Precious Corals FMP to revise the minimum harvest size for black corals (Antipathes sp.) due to the effects of Carijoa riisei on black corals in the Main Hawaiian Islands. Based on comments received during Precious Coral Plan Team meetings, as well as subsequent SSC, Council, and public working group meetings, the Council developed an options document that includes: (1) Removing the exemption allowing harvest of black corals with a minimum base diameter of inch(1.905 cm)or minimum height of 36 inches(0.9144 m) by persons who reported harvest to the State of Hawaii within five years prior to April 17, 2002; (2) Establishing a 48-inch(1.2192 m)height minimum requirement for harvest of black coral colonies; and (3) eliminating any minimum base diameter requirement. At its 124th meeting, the Council may take initial action to identity and support a range of alternatives, including selection of a preliminary preferred alternative, to be further analyzed in a framework amendment to the Precious Coral FMP.

2. CNMI Bottomfish Management Amendment (final action)

A public hearing will be held to solicit comments on alternatives to manage the bottomfish fishery around the CNMI. Based on comments received during public scoping meetings held in CNMI, the Council developed preliminary options including limiting the harvest of bottomfish, reporting requirements, establishing area closures, gear and vessel restrictions, and other control measures expressed by the public during the scoping meetings. At its 123nd meeting, the Council endorsed the range of alternatives to be further developed and analysis for final consideration. At the 124th meeting, the Council may take final action on a preferred alternative and direct staff to finalize an amendment to the Bottomfish FMP for regulatory action.

3. Initial Action on Developing Geographic Fishery Ecosystem Plans

A public hearing will be held to solicit comments on initial action for ecosystem approaches in developing geographic fishery ecosystem plans. At its 122nd meeting, the Council endorsed the development of fishery ecosystem plans on an archipelagic-basis and initiation of the process to develop alternative approaches for ecosystem-based fisheries management. At the 124th meeting, the Council may take initial action to develop a range of alternative approaches for ecosystem-based fisheries management on a geographic basis.

4. Initial Action on NWHI Sanctuary Alternatives

A public hearing will be held to solicit comments on management measures for NWHI bottomfish, crustacean, precious coral, pelagic and coral reef ecosystem fisheries, pursuant to the proposed designation of the NWHI Coral Reef Ecosystem Reserve as a national marine sanctuary. At the 124th meeting, the Council will review the National Marine Sanctuary Program's fishery goal, objectives, alternatives and analyses and relevant NWHI fisheries information, and may take initial action to select preliminary preferred alternatives for these fisheries.

5. Final Action on Pelagic Squid Management

A public hearing will be held to solicit comments on alternatives to manage the US pelagic squid fisheries. Following public scoping meetings held in the Main Hawaiian Islands, CNMI, Guam and American Samoa, the Council developed preliminary options to establish appropriate monitoring and management mechanisms for the domestic harvest of pelagic squid in the Pacific Ocean (excluding vessels subject to other Councils' jurisdictions).

At its 123nd meeting, the Council endorsed the range of alternatives to be further developed and analysis for final consideration. At the 124th meeting, the Council may take final action on a preferred alternative and direct staff to finalize an amendment to the Pelagics FMP for regulatory action.

6. Final Action on Seabird Measures

In November 2000, the USFWS issued a BiOp which contained reasonable and prudent measures for minimizing interactions with the endangered shorttail albatross. The BiOp recognized that the Hawaii-based longline fishery at that time comprised two segments, namely a deep-setting tuna-targeting segment, and a shallow-setting swordfish targeting segment. All longline vessels fishing above 23° N' lat. were required to use thawed blue dyed bait and employ strategic offal discards when setting and hauling the longline. Vessels setting deep to catch tuna were also required to use a line setting machine with weighted branch lines. Vessels setting shallow to target swordfish were required to begin setting the longline at least 1 hour after local sunset and complete the setting process by local sunrise, using only the minimum vessel lights necessary.

The Council recommended a regulatory amendment to require these measures and a final rule was published in May 2002. However, the final rule did not include a requirement for night setting due to an earlier closure of the swordfish segment of the Hawaii-based fishery in early 2001, under separate rule making in compliance with a March 2001, BiOp issued by NMFS regarding sea turtles. The Council recently completed a regulatory amendment that re-opened the swordfish-targeting segment of the Hawaii longline fishery in April 2004, which included the night setting requirement. During 2002 and 2003, additional seabird mitigation research field tests were conducted with underwater setting chutes, blue dyed bait and side setting. Side setting, as the term implies, means setting the longline from the side, rather than from the stern of the vessel. While all measures worked well, side setting was the only method which virtually reduced the interaction rate between longline and seabirds to zero. However, side setting is not included within the suite of measures required in the USFWS BiOp, nor in the regulations for the Hawaii-based fishery.

At its 122nd meeting, the Council, discussed the potential for amending its requirements for seabird mitigation above 23° N' lat. to include side setting, an underwater setting chute or towed deterrent as measures that fishermen may elect to use in place of blue dyed bait, strategic offal discards and night setting. The Council directed the staff to prepare a regulatory amendment to the Pelagics FMP that examines a range of alternatives for seabird mitigation which included the choices for longline fishermen of either the use of side setting, use of an underwater setting chute, or other acceptable measures.

At its 123rd meeting, the Council took initial action and select a preferred alternative and directed staff to complete a regulatory amendment in order to take final action at its next meeting. The preferred alternative would require shallow setting boats in all areas to use current mitigation measures, excluding the requirement to use blue-dyed bait, or use side setting or use an underwater setting chute or use a tori line. The preferred alternative would also require deep setting boats fishing north of 23° N. Lat., use current mitigation measures, excluding the requirement to use blue-dyed bait, or use side setting or use an underwater setting chute or use a tori line), in conjunction with a line shooter and weighted branchlines.

At the 124th meeting the Council will review the regulatory amendment document, and may take final action with a recommendation that the regulatory amendment document be finalized and transmitted to NMFS for review and approval.

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 20, 2004.
John H. Dunnigan,
Director, Office of Sustainable Fisheries, National Marine Fisheries Service.

[FR Doc. 04-21554 Filed 9-24-04; 8:45 am]

BILLING CODE 3510-22-S